DEPARTMENT OF HEALTH AND HUMAN SERVICES

President's Council on Physical Fitness and Sports

AGENCY: Office of the Secretary, Office of Public Health and Science.

ACTION: Notice of meeting.

SUMMARY: As stipulated by the Federal Advisory Committee Act, the Department of Health and Human Services (DHHS) is hereby giving notice that the President's Council on Physical Fitness and Sports will hold a meeting. This meeting is open to the public. A description of the Council's functions is included also with this notice.

Date and Time: June 21, 2002, from 8 a.m. to 12:45 p.m.

ADDRESSES: Department of Health and Human Services, Hubert H. Humphrey Building, Room 800, 200 Independence Avenue, SW., Washington, DC 20201.

FOR FURTHER INFORMATION, CONTACT: Lisa Oliphant, Executive Director, President's Council on Physical Fitness and Sports, Hubert H. Humphrey Building, Room 738H, 200 Independence Avenue, SW., Washington, DC 20201, (202) 690-5187.

SUPPLEMENTARY INFORMATION: The President's Council on Physical Fitness and Sports (PCPFS) was established in 1956 by President Eisenhower after published reports indicated that American boys and girls were unfit compared to the children of Western Europe. The Council has undergone two name changes and several reorganizations before arriving at its present status as a program office within the Office of Public Health and Science in the United States Department of Health and Human Services. It currently operates under directives issued in Executive Order 13265, as amended. PCPFS serves to promote physical activity and sports participation among all Americans. The primary functions of the Council include (1) to advise the President and Secretary concerning progress made in carrying out the provisions of the Executive Order and recommend to the President and Secretary, as necessary, actions to accelerate progress; (2) to advise the Secretary on ways and means of enhancing opportunities for participation in physical fitness and sports, and, where possible, to promote and assist in the facilitation and/or implementation of such measures; (3) to advise the Secretary regarding opportunities to extend and improve physical activity/fitness and sports programs and services at the national, state and local levels; and (4) advise the Secretary regarding the enhancement of objectives, programs and educational and promotional materials sponsored, overseen, and/or disseminated by the Council.

This meeting of the Council is being held to (1) introduce newly appointed members; (2) provide Council members with the status of ongoing Council programs and activities; and (3) plan for future projects and programs.

The 15-day notice exception found at 41 CFR 101-61015(b)(2) is invoked due to the President signing this Executive Order on June 6, limiting the amount of time available for public notice of the Council meeting, and the necessity of a meeting within 15 days of that date.

Dated: June 5, 2002.
Lisa E. Oliphant,
Executive Director.

[FR Doc. 02-14740 Filed 6-11-02; 8:45 am]

BILLING CODE 4150-28-P